COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and services to the Procurement List that will be furnished by nonprofit agencies employing persons who are blind or have other severe disabilities, and delete products and a service previously furnished by such agencies.

DATES: Comments must be received on or before: 1/17/2016.

ADDRESSES: Committee for Purchase From People Who Are Blind or Severely Disabled, 1401 S. Clark Street, Suite 715, Arlington, Virginia, 22202-4149.

FOR FURTHER INFORMATION CONTACT: For further information or to submit comments contact Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products:

Product Name(s)—NSN(s): Pencil, Mechanical, Push Action; 7520-01-NIB-2331—Black, Fine Point (0.5 mm); 7520-01-NIB-2332—Black, Medium Point (0.7 mm).

Mandatory Source(s) of Supply: San Antonio Lighthouse for the Blind, San Antonio, TX.

Mandatory Purchase For: Total Government Requirement.

Contracting Activity: General Services Administration, New York, NY.

Distribution: A-List.

Product Name(s)—NSN(s): Kit, Pipefitter Tools—5180-00-596-1501.

Mandatory Source(s) of Supply: Industries for the Blind, Inc., West Allis, WI.

Mandatory Purchase For: 100% of requirement of the U.S. Army.

Contracting Activity: U.S. Army Tank and Automotive Command, Warren, MI.

Distribution: C-List.

Services:

Service Type: Call Center Service.

Service is Mandatory For: OPM, Retirement Service, Retirement Operations, 1137 Branchton Road, Boyers, PA.

Mandatory Source(s) of Supply: Orion Career Works, Auburn, WA, Beacon Group SW., Inc., Tucson, AZ.

Contracting Activity: Office of Personnel Management, Boyers Region (Non FISD), Boyers, PA.

Service Type: Help Desk Support Service.

Service is Mandatory For: US Army, Army Training Support Center, Combined Arms Center for Training, 3306 Wilson Avenue, Joint Base Langley-Eustis, VA.

Mandatory Source(s) of Supply: ServiceSource, Inc., Alexandria, VA; Orion Career Works, Auburn, WA.

Contracting Activity: Dept of the Army, W6QM MICC-FDO Ft Eustis, Fort Eustis, VA.

Deletions

The following products and service are proposed for deletion from the Procurement List:

Products:

Product Name(s)—NSN(s): Hood, Spray Painters Protective—4240-LL-L08-5010.

Mandatory Source(s) of Supply: Goodwill Contract Services of Hawaii, Inc., Honolulu, HI.

Contracting Activity: Dept of the Navy, Pearl Harbor Naval Shipyard IMF, Pearl Harbor, HI.

Product Name(s)—NSN(s):

Paper, Mimeograph and Duplicating—7530-00-285-3060, 7530-00-224-6754, 7530-00-239-9747, 7530-00-221-0805, 7530-01-074-1832, 7530-00-231-7125.

Paper, Bond & Writing—7530-00-160-9165, 7530-00-515-1086.

Paper, Duplicating, Liquid Process, White, 8 1/2” x 11”—7530-00-240-4768.

Mandatory Source(s) of Supply: Louisiana Association for the Blind, Shreveport, LA.

Contracting Activity: General Services Administration, New York, NY.

Product Name(s)—NSN(s): Pen, Ball Point, Retractable, BIO-WRITE, Ergonomic, Cushion Grip, 7520-01-424-4856—Black Ink, Fine Point, 7520-01-424-4876—Black Ink, Medium Point, 7520-01-424-4873—Blue Ink, Fine Point, 7520-01-424-4854—Blue Ink, Medium Point.

Mandatory Source(s) of Supply: Industries for the Blind, Inc., West Allis, WI.

Contracting Activity: General Services Administration, New York, NY.

Product Name(s)—NSN(s): Module, Medical System—8465-00-NSH-0063.

Mandatory Source(s) of Supply: ServiceSource, Inc., Alexandria, VA.

Contracting Activity: W6QK ACC-APG Natick, Natick, MA.

Service:

Service Type: Janitorial/Custodial Service, U.S. Army Reserve, Lemma Whyman USARC, 145 Charlotte Street, Canandaigua, NY.

Mandatory Source(s) of Supply: NYSARC, Inc., Seneca-Cayuga Counties Chapter, Waterloo, NY.

Contracting Activity: Dept of the Army, W6QK ACC-PICA, Picatinny Arsenal, NJ.

Barry S. Lineback,
Director, Business Operations.

[FR Doc. 2015-31855 Filed 12-17-15; 8:45 am]

BILLING CODE 6353-01-P